DEPARTMENT OF COMMERCE

International Trade Administration

[A-549-813]

Canned Pineapple Fruit from Thailand: Extension of Time Limit for Preliminary Results of Antidumping Duty Administrative Review

AGENCY: Import Administration, International Trade Administration, U.S. Department of Commerce.

EFFECTIVE DATE: March 30, 2007.

FOR FURTHER INFORMATION CONTACT: Myrna Lobo, Office of AD/CVD Operations 6, Import Administration, International Trade Administration, U.S. Department of Commerce, 14th Street and Constitution Avenue, NW, Washington DC 20230; telephone: (202) 482-2371.

SUPPLEMENTARY INFORMATION:

Background

On August 30, 2006, the Department of Commerce (the Department) published in the Federal Register the notice of initiation of the administrative review of the antidumping duty order on canned pineapple fruit from Thailand for Vita Food Factory (1989) Ltd. (Vita). See Initiation of Antidumping and Countervailing Duty Administrative Reviews and Requests for Revocation in Part, 71 FR 51573 (August 30, 2006). On October 10, 2006 the Department initiated a review for Tropical Food Industries Co. Ltd. (Trofco). See Initiation of Antidumping Duty Administrative Review: Canned Pineapple Fruit from Thailand, 71 FR 59430 (October 10, 2006). The period of review for both companies is July 1, 2005 through June 30, 2006.

Extension of Time Limits for Preliminary Results

Section 751(a)(3)(A) of the Tariff Act of 1930, as amended (the Act), and section 351.213(h)(1) of the Department's regulations require the Department to issue the preliminary results of a review within 245 days after the last day of the anniversary month of the order or suspension agreement for which the administrative review was requested, and final results of the review within 120 days after the date on which the notice of the preliminary results is published in the Federal Register. However, if the Department determines that it is not practicable to complete the review within the aforementioned specified time limits, section 751(a)(3)(A) of the Act and section 351.213(h)(2) of the Department's regulations allow the Department to extend the 245-day period to 365 days and to extend the 120-day period to 180 days.

Due to the initiation of a cost investigation for Trofco, together with the need for further analysis of Vita's questionnaire response, the Department finds that it is not practicable to complete the preliminary results of this review within the original time limit. Therefore, the Department is extending the deadline for completion of the preliminary results of this administrative review of the antidumping duty order on canned pineapple fruit from Thailand by 120 days from April 2, 2007 until no later than July 31, 2007.

This notice is issued and published pursuant to sections 751(a)(3)(A) and 777(i)(1) of the Act.

Dated: March 26, 2007.
Stephen J. Claeys,
Deputy Assistant Secretary for Import Administration.

[FR Doc. E7-5929 Filed 3-29-07; 8:45 am]

BILLING CODE 3510-DS-S